DEPARTMENT OF ENERGY

Federal Energy Regulatory Commission

[Docket No. RP02-39-000]

Columbia Gulf Transmission Company; Notice of Tariff Filing

November 7, 2001.

Take notice that on November 1, 2001, Columbia Gulf Transmission Company(Columbia Gulf) tendered for filing as part of its FERC Gas Tariff, Second Revised Volume No. 1, tariff sheets listed in Appendix A to the filing, with a proposed effective date of December 1, 2001.

Columbia Gulf proposes to establish Rate Schedule PAL, under which interruptible parking and lending services would be performed, in order to provide its customers with additional flexibility to manage their natural gas supply portfolios and transportation agreements. Proposed Rate Schedule PAL is closely modeled after the parking and lending services already authorized by the Commission. The proposed parking and lending services will allow Columbia Gulf's customers to park or receive loaned gas at agreed upon points of service. Columbia Gulf states that Rate Schedule PAL services are optional and have the lowest scheduling priority.

Columbia Gulf states that copies of its filing have been mailed by first class mail to all firm customers, interruptible customers, and affected state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.
Acting Secretary.

[FR Doc. 01-28482 Filed 11-13-01; 8:45 am]

BILLING CODE 6717-01-P